DEPARTMENT OF COMMERCE

National Oceanic and Atmospheric Administration

RIN: 0648-XF61

New England Fishery Management Council; Public Meeting

AGENCY: National Marine Fisheries Service (NMFS), National Oceanic and Atmospheric Administration (NOAA), Commerce

ACTION: Notice of a public meeting.

SUMMARY: The New England Fishery Management Council (Council) is scheduling a public meeting of its Scallop Survey Advisory Panel in March, 2008 to consider actions affecting New England fisheries in the exclusive economic zone (EEZ). Recommendations from this group will be brought to the full Council for formal consideration and action, if appropriate.

DATES: This meeting will be held on Tuesday, March 4, 2008, at 9 a.m.

ADDRESSES: This meeting will be held at the NMFS Observer Training Center, Falmouth Technology Park, 25 Bernard Saint Jean Drive, East Falmouth, MA 02536; telephone: (508) 495-2397; fax: (508) 495-2124.

Council Address: New England Fishery Management Council, 50 Water Street, Mill 2, Newburyport, MA 01950.

FOR FURTHER INFORMATION CONTACT: Paul J. Howard, Executive Director, New England Fishery Management Council; telephone: (978) 465-0492.

SUPPLEMENTARY INFORMATION: The panel will review Scallop Survey Advisory Panel (SSAP) terms of reference; determine how previous SSAP work applies; determine scope of future SSAP work to meet the terms of reference. The panel will also discuss and approve new dredge gear deployment and use for the 2008 survey. The panel will discuss expansion of state or federal surveys into the Gulf of Mane and other unsurveyed areas. The panel will also discuss future development and integration of photographic/video and acoustic technology into the standard scallop surveys. Other business will be discussed if time allows.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: February 8, 2008.
Tracey L. Thompson,
Acting Director, Office of Sustainable Fisheries, National Marine Fisheries Service.

[FR Doc. E8-2652 Filed 2-12-08; 8:45 am]

BILLING CODE 3510-22-S